DEPARTMENT OF HEALTH AND HUMAN SERVICES

Centers for Disease Control and Prevention

[Program Announcement 04231]

Enhancement of HIV/AIDS Laboratory Training and Quality Assurance Center in the United Republic of Tanzania; Notice of Intent To Fund Single Eligibility Award

A. Purpose

The Centers for Disease Control and Prevention (CDC) announces the intent to fund fiscal year (FY) 2004 funds for a cooperative agreement program to facilitate the development of a national HIV Laboratory Quality Assurance Center and support the strengthening of strategic information systems to enable the Ministry of Health of the United Republic of Tanzania to analyze and disseminate data on the various levels of HIV/AIDS interventions in a timely fashion. The Catalog of Federal Domestic Assistance number for this program is 93.941.

B. Eligible Applicant

Assistance will be provided only to the National Institute for Medical Research, Tanzania. NIMR is mandated by Act No. 29 of 1979, passed by the Tanzanian Parliament, to undertake public health interventions and research in Tanzania. NIMR has experience and capacity to undertake national programs under the MOH. NIMR has demonstrated its capability in assisting all 120 local authorities in Tanzania to conduct needs assessment and develop plans to implement health sector reforms. NIMR is currently implementing the National Lymphatic Filariasis Control Program. Because of its experience and expertise, NIMR is currently the only appropriate and qualified organization to conduct a specific set of activities supportive of the CDC/GAP goals for enhancing HIV/AIDS prevention, care and treatment services in Tanzania because: Tanzania does not currently have a National Public Health Laboratory that would form the apex of and support to the HIV Laboratory network supporting HIV/AIDS interventions. Such activities would support the PEPFAR goals of diagnosing HIV infection, staging HIV/AIDS disease and monitoring antiretroviral therapy (ART). The MOH has assigned NIMR the responsibility of supporting the set up of a national HIV Laboratory Quality Assurance Center. NIMR will collaborate with a number of in-country partners to implement these activities.

The MOH has various initiatives and continuing interventions in HIV/AIDS in the country including prevention of mother to child transmission (PMTCT), Blood safety, voluntary counseling and testing (VCT) and sexually transmitted infection (STI) management in health facilities, and HIV and syphilis surveillance in antenatal (ANC) settings. In order to monitor and evaluate these programs, there is a need to strengthen information systems at the central level and at the sites where these services are implemented. The MOH, with support from CDC, has strengthened and improved the quality of sentinel surveillance data from ANC, STI and blood donors; behavioral surveillance was introduced in 2002. Currently, NIMR is supporting the MOH to implement the Integrated Disease Surveillance and Response Program supported by CDC. The MOH has requested NIMR to support the strengthening of strategic information systems to enable the Ministry to analyze and disseminate data on the various levels of HIV/AIDS interventions in a timely fashion to policy makers, health providers and the public at large and to link HIV/AIDS surveillance system with the integrated disease surveillance and response strategy.

NIMR has the ability to technically oversee the project, ensuring the activities implemented are integrated into the national strategy for combating HIV/AIDS in Tanzania.

C. Funding

Approximately $2,500,000 is available in FY 2004 to fund this award. It is expected that the award will begin on or before July 1, 2004, and will be made for a 12-month budget period within a project period of up to 5 years. Funding estimates may change.

D. Where To Obtain Additional Information

For general comments or questions about this announcement, contact: Technical Information Management, CDC Procurement and Grants Office, 2920 Brandywine Road, Atlanta, GA 30341-4146, Telephone: 770-488-2700.

For technical questions about this program, contact: Cecil Threat, Project Officer, Global AIDS Program, C/o American Embassy, 2140 Dar es Salaam Place, Washington, DC 20521-2140, Telephone: 255 22 212 1407, Fax: 255 22 212 1462, E-mail: Cthreat@cdc.gov.

Dated: June 4, 2004.
William P. Nichols,
Acting Director, Procurement and Grants Office, Centers for Disease Control and Prevention.

[FR Doc. 04-13137 Filed 6-9-04; 8:45 am]

BILLING CODE 4163-18-P